DEPARTMENT OF STATE

[Public Notice 5331]

Certification Pursuant to Section 583 of the Foreign Operations, Export Financing, and Related Programs Appropriations Act, FY 2006, (Pub.L. 109-102)

Pursuant to the authority vested in me under Section 583 of the Foreign Operations, Export Financing, and Related Programs Appropriations Act, FY 2006, (Pub.L. 109-102), I hereby certify that application of the restriction in such section to a country or countries is contrary to the national interest of the United States.

This certification shall be reported to the Congress and published in the Federal Register.

Dated: February 2, 2006.
Condoleezza Rice,
Secretary of State, Department of State.

[FR Doc. E6-2780 Filed 2-27-06; 8:45 am]

BILLING CODE 4710-08-P